FEDERAL COMMUNICATIONS COMMISSION

Notice of Public Information Collection Being Reviewed by the Federal Communications Commission, Comments Requested

December 28, 2009.

SUMMARY: The Federal Communications Commission, as part of its continuing effort to reduce paperwork burden invites the general public and other Federal agencies to take this opportunity to comment on the following information collection(s), as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid OMB control number. No person shall be subject to any penalty for failing to comply with a collection of information subject to the Paperwork Reduction Act that does not display a currently valid OMB control number.

DATES: Persons wishing to comments on this information collection should submit comments on or before March 5, 2010. If you anticipate that you will be submitting comments, but find it difficult to do so within the period of time allowed by this notice, you should advise the contact listed below as soon as possible.

ADDRESSES: Direct all PRA comments to Nicholas A. Fraser, Office of Management and Budget (OMB), via fax at (202) 395-5167, or via the Internet at Nicholas_A._Fraser@omb.eop.gov and to Judith B. Herman, Federal Communications Commission (FCC). To submit your PRA comments by e-mail send them to: PRA@fcc.gov.

FOR FURTHER INFORMATION CONTACT: Judith B. Herman, OMD, 202-418-0214. For additional information about the information collection(s) send an e-mail to PRA@fcc.gov and to Judith B. Herman, 202-418-0214.

SUPPLEMENTARY INFORMATION: OMB Control No: 3060-1044.

Title: Review of the Section 251 Unbundling Obligations of Incumbent Local Exchange Carriers, CC Docket No. 01-338 and WC Docket No. 04-313, FCC 04-290, Order on Remand.

Form No.: N/A.

Type of Review: Extension of a currently approved collection.

Respondents: Business or other for-profit, not-for-profit institutions, and state, local or tribal government.

Number of Respondents: 645 respondents; 645 responses.

Estimated Time Per Response: 8 hours.

Frequency of Response: On occasion reporting requirement, recordkeeping requirement and third party disclosure requirement.

Obligation to Respond: Required to obtain or retain benefits. Statutory authority for this collection of information is contained in 47 U.S.C. 251.

Total Annual Burden: 5,160 hours.

Privacy Act Impact Assessment: N/A.

Nature and Extent of Confidentiality: The Commission is not requesting respondents to submit or disclose confidential information. However, in certain circumstances, respondents may voluntarily choose to submit confidential information pursuant to applicable confidentiality rules.

Need and Uses: The Commission will submit this information collection after this 60 day comment period in order to obtain the full three year clearance from the Office of Management and Budget (OMB). The Commission has not changed its burden estimates or requirements that were submitted to the OMB for approval in 2007.

All of the information collections implement the requirements of section 251 of the Telecommunications Act of 1996. Section 251 is designed to accelerate private sector development and deployment of telecommunications technologies and services by spurring competition. In order to foster competition in the local telephone market, the Act requires incumbent local exchange carriers (incumbent LECs) to share certain elements of their local telephone networks, providing them to other carriers at reasonable prices on an unbundled basis. These “unbundled network elements” (UNEs) are necessary for competition because the only alternative, building entire new telephone networks, would be prohibitively expensive for new entrants.

In Order, FCC 03-36, the Commission adopted rules and regulations designed to eliminate operational barriers to competition in the telecommunications services market and implement certain provisions of Section 251, including the UNE obligations of incumbent LECs.

In the Order on Remand, FCC 04-290, the Commission responded to a decision by the United States Court of Appeals for the District of Columbia that vacated the “sub-delegation” of authority to state commissions and vacated and remanded certain nationwide impairment findings, including mass market switching and dedicated transport.

Federal Communications Commission.
Alethea Lewis,
Information Specialist, Office of the Secretary, Office of Managing Director.

[FR Doc. E9-31154 Filed 12-31-09; 8:45 am]

BILLING CODE 6712-01-S